FEDERAL TRADE COMMISSION

Granting of Request for Early Termination of the Waiting Period Under the Premerger Notification Rules

Section 7A of the Clayton Act, 15 U.S.C. 18a as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—01/22/2002
20020314 | SBC Communications Inc. | Yahoo! Inc. | Yahoo! Inc.
20020315 | CKE Restaurants, Inc. | Santa Barbara Restaurants Group, Inc. | Santa Barbara Restaurants Group, Inc.
20020320 | DBBC, L.L.C. | Cumulus Media Inc. | Cumulus Media Inc.
20020323 | Atmos Energy Corporation | Robert M. Hearin Support Foundation | Mississippi Valley Gas Company.
20020327 | Kirin Brewery Company, Limited | Diageo plc | Joseph E. Seagram & Sons, Inc.
20020333 | General Electric Company | W. Don Cornwell | KNTV License, Inc.
|  |  | KNTV Television, Inc.
20020335 | Joseph M. & Marie Field | Tribune Company | Tribune Denever Radio, Inc.
20020339 | Crandell C. & Erskine B. Bowels | Carl M. & Marie T. Bouckaert | Beaulieu Canada Company.
|  |  | Beaulieu Group, LLC.
20020340 | Heartland Industrial Partners, L.P. | Carl M. & Marie T. Bouckaert | Beaulieu Canada Company.
|  |  | Beaulieu Group, LLC.
TRANSACTIONS GRANTED EARLY TERMINATION—01/23/2002
20020290 | GTCR Fund VII, L.P. | Verizon Communications Inc. | TSI Telecommunications Services Inc.
20020332 | The Bank of New York Company, Inc. | Credit Suisse Group | Autranet LLC.
20020348 | SBC Communications, Inc. | Newco | Newco.
TRANSACTIONS GRANTED EARLY TERMINATION—01/24/2002
20020351 | Tyco International Ltd. | McGrath RentCorp | McGrath RentCorp.
TRANSACTIONS GRANTED EARLY TERMINATION—01/25/2002
20020325 | Yahoo! Inc. | HotJobs.com, Ltd. | HotJobs.com,Ltd
20020342 | Nextel Communications, Inc. | NeoWorld Holdings, LLC | NeoWorld Communications, Inc.
20020346 | Digi International Inc. | NetSilicon, Inc. | NetSilicon, Inc.
TRANSACTIONS GRANTED EARLY TERMINATION—01/28/2002
20020353 | Moore Corporation Limited | The Nielsen Group, Inc. | The Nielsen Company.
20020355 | Chiron Corporation | Matrix Pharmaceutical, Inc. | Matrix Pharmaceutical, Inc.
20020356 | Danaher Corporation | Marconi plc | Marconi Data Systems, Inc.
20020359 | Dycom Industries, Inc. | Arguss Communications, Inc. | Arguss Communications, Inc.
20020360 | Sumner M. Redstone | Sumner M. Redstone | MTVI Group LP.
20020361 | Barcardi U.S.A., Inc. | Tequila Cazadores, S.A. de C.V. | Tequila Cazadores, S.A. de C.V.
20020366 | IM Internationalmedia AG | Spyglass Enterainment Group, Inc. | Spyglass Entertainment Group, Inc.
20020367 | Gray Barber | IM Internationalmedia AG | IM Internationalmedia AG.
20020370 | Pierre Lassonde | Newmont Mining Corporation | Newmont Mining Corporation.
20020371 | Seymour Schulich | Newmont Mining Corporation | Newmont Mining Corporation
TRANSACTIONS GRANTED EARLY TERMINATION—01/29/2002
20020324 | Carl C. Icahn | Willamette Industries, Inc. | Willamette Industries, Inc.
20020328 | Northwestern Corporation | The Montana Power Company | The Montana Power Company
20020357 | Alpha Industries, Inc. | Conexant Systems, Inc. | Washington Sub, Inc.
20020365 | Respironics, Inc. | Novametrix Medical Systems Inc. | Novametrix Medical Systems Inc.
20020369 | General Electric Company | PII Group Limited | PII Group Limited
TRANSACTIONS GRANTED EARLY TERMINATION—01/30/2002
20020264 | Danaher Corporation | Pennon Group, Plc | Viridor Instrumentation Limited.
TRANSACTIONS GRANTED EARLY TERMINATION—02/01/2002
20020306 | Elan Corporation, plc | Ligand Pharmaceuticals Incorporated | Ligand Pharmaceuticals Incorporated.
20020336 | Adelphia Communications Corporation | ML Media Partners, L.P. | Century/ML Cable Venture.
20020374 | Nestle S.A. | PhotoCure ASA | PhotoCure ASA.
20020375 | Mrs. L. Bettencourt | PhotoCure ASA | PhotoCure ASA.
20020377 | Yellow Pages Investments, L.P. | McLeodUSA Incorporated | McLeodUSA Media Group, Inc.
20020389 | Mr. Jeffrey H. Loria | Mr. John W. Henry | Florida Marlins Baseball Club, L.L.C.
|  |  | Marlins Ballpark Development Company.
20020390 | Mr. John W. Henry | The Jean R. Yawkey Trust, dated July 28, 1981, as amended | Boston Red Sox Baseball Club L.P.
20020393 | UBS AG | Enron Corp. | Enron Corp.
20020395 | CenturyTel, Inc. | Verizon Communications Inc. | Verizon Communications Inc.
20020396 | Voting Trust Agreement | R.R. Engstrom | Darr Equipment Operating Co., L.P.
|  |  | Darr Rental Co.
20020401 | Peter M. Holt | R.R. Engstrom | Darr Energy Services, L.P.
|  |  | Darr Equipment Operating Co., L.P.
|  |  | Darr Rental Co.

For FURTHER INFORMATION CONTACT: Sandra M. Peay, or Chandra L. Kennedy, Contact Representatives. Federal Trade Commission, Premerger Notification Office, Bureau of Competition, Room 303, Washington, DC 20580, (202) 326-3100.

By Direction of the Commission.
Donald S. Clark,
Secretary .

[FR Doc. 02-3830 Filed 2-15-02; 8:45 am]

BILLING CODE 6750-01-M